FEDERAL ELECTION COMMISSION

[Notice 2014-04]

Filing Dates for the Oklahoma Senate Special Elections

AGENCY: Federal Election Commission.

ACTION: Notice of filing dates for special elections.

SUMMARY: Oklahoma has scheduled special elections to fill the U.S. Senate seat being vacated by Senator Tom Coburn. There are three possible special elections, but only two may be necessary.

• Primary Election: June 24, 2014.

• Possible Runoff Election: August 26, 2014. In the event that one candidate does not achieve more than 50% of the vote in his/her party's Special Primary Election, the top two vote-getters participate in a Special Runoff Election.

• General Election: November 4, 2014.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

Special Primary Only

All principal campaign committees of candidates only participating in the Oklahoma Special Primary shall file a Pre-Primary Report on June 12, 2014. (See chart below for the closing date for the report).

Special Primary and General Without Runoff

If only two elections are held, all principal campaign committees of candidates participating in the Oklahoma Special Primary and Special General Elections shall file a Pre-Primary Report on June 12, 2014; a Pre-General Report on October 23, 2014; and a Post-General Report on December 4, 2014. (See chart below for the closing date for each report).

Special Primary and Runoff Elections

If three elections are held, all principal campaign committees of candidates only participating in the Oklahoma Special Primary and Special Runoff Elections shall file a Pre-Primary Report on June 12, 2014; and a Pre-Runoff Report on August 14, 2014. (See chart below for the closing date for each report.)

Special Primary, Runoff and General Elections

All principal campaign committees of candidates participating in the Oklahoma Special Primary, Special Runoff and Special General Elections shall file a Pre-Primary Report on June 12, 2014; a Pre-Runoff Report on August 14, 2014; a Pre-General Report on October 23, 2014; and a Post-General Report on December 4, 2014. (See chart below for the closing date for each report.)

Unauthorized Committees (PACs and Party Committees)

Political committees filing on a quarterly basis in 2014 are subject to special election reporting if they make previously undisclosed contributions or expenditures in connection with the Oklahoma Special Primary, Special Runoff or Special General Elections by the close of books for the applicable report(s). (See chart below for the closing date for each report).

Committees filing monthly that make contributions or expenditures in connection with the Oklahoma Special Primary, Special Runoff or Special General Elections will continue to file according to the monthly reporting schedule.

Additional disclosure information in connection with the Oklahoma Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,300 during the special election reporting periods (see charts below for closing date of each period). 11 CFR 104.22(a)(5)(v) and (b).

Calendar of Reporting Dates for Oklahoma Special Elections
Report | Close of books ¹ | Reg. Cert. & overnight mailing deadline | Filing deadline
COMMITTEES INVOLVED IN ONLY THE SPECIAL PRIMARY (06/24/14) MUST FILE:
Pre-Primary | 06/04/14 | 06/09/14 | 06/12/14
July Quarterly | 06/30/14 | 07/15/14 | 07/15/14
IF ONLY TWO ELECTIONS ARE HELD, COMMITTEES INVOLVED IN THE SPECIAL PRIMARY (06/24/14) AND SPECIAL GENERAL (11/04/14) MUST FILE:
Pre-Primary | 06/04/14 | 06/09/14 | 06/12/14
July Quarterly | 06/30/14 | 07/15/14 | 07/15/14
October Quarterly | 09/30/14 | 10/15/14 | 10/15/14
Pre-General | 10/15/14 | 10/20/14 | 10/23/14
Post-General | 11/24/14 | 12/04/14 | 12/04/14
Year-End | 12/31/14 | 01/31/15 | 01/31/15 ²
IF ONLY TWO ELECTIONS ARE HELD, COMMITTEES INVOLVED IN ONLY THE SPECIAL GENERAL (11/04/14) MUST FILE:
Pre-General | 10/15/14 | 10/20/14 | 10/23/14
Post-General | 11/24/14 | 12/04/14 | 12/04/14
Year-End | 12/31/14 | 01/31/15 | 01/31/15 ²
IF THREE ELECTIONS ARE HELD, COMMITTEES INVOLVED IN THE SPECIAL PRIMARY (06/24/14) AND SPECIAL RUNOFF (08/26/14) MUST FILE:
Pre-Primary | 06/04/14 | 06/09/14 | 06/12/14
July Quarterly | 06/30/14 | 07/15/14 | 07/15/14
Pre-Runoff | 08/06/14 | 08/11/14 | 08/14/14
October Quarterly | 09/30/14 | 10/15/14 | 10/15/14
IF THREE ELECTIONS ARE HELD, COMMITTEES INVOLVED IN ONLY THE SPECIAL RUNOFF (08/26/14) MUST FILE:
Pre-Runoff | 08/06/14 | 08/11/14 | 08/14/14
October Quarterly | 09/30/14 | 10/15/14 | 10/15/14
COMMITTEES INVOLVED IN THE SPECIAL PRIMARY (06/24/14), SPECIAL RUNOFF (08/26/14) AND SPECIAL GENERAL (11/04/14) MUST FILE:
Pre-Primary | 06/04/14 | 06/09/14 | 06/12/14
July Quarterly | 06/30/14 | 07/15/14 | 07/15/14
Pre-Runoff | 08/06/14 | 08/11/14 | 08/14/14
October Quarterly | 09/30/14 | 10/15/14 | 10/15/14
Pre-General | 10/15/14 | 10/20/14 | 10/23/14
Post-General | 11/24/14 | 12/04/14 | 12/04/14
Year-End | 12/31/14 | 01/31/15 | 01/31/15 ²
IF THREE ELECTIONS ARE HELD, COMMITTEES INVOLVED IN ONLY THE SPECIAL GENERAL (11/04/14) MUST FILE:
Pre-General | 10/15/14 | 10/20/14 | 10/23/14
Post-General | 11/24/14 | 12/04/14 | 12/04/14
¹ These dates indicate the end of the reporting period. A reporting period always begins the day after the closing date of the last report filed. If the committee is new and has not previously filed a report, the first report must cover all activity that occurred before the committee registered as a political committee with the Commission up through the close of books for the first report due.
² Notice that this filing deadline falls on a weekend or federal holiday. Filing deadlines are not extended when they fall on nonworking days. Accordingly, reports filed by methods other than Registered, Certified or Overnight Mail, or electronically, must be received before the Secretary of the Senate Public Records Office's (or for committees not supporting only Senate candidates, the Commission's) close of business on the last business day before the deadline.

Dated: February 4, 2014.
On behalf of the Commission,
Lee E. Goodman,
Chairman, Federal Election Commission.

[FR Doc. 2014-02720 Filed 2-7-14; 8:45 am]

BILLING CODE 6715-01-P